COMMITTEE FOR PURCHASE FROM PEOPLE WHO ARE BLIND OR SEVERELY DISABLED

41 CFR Parts 51-3 and 51-4

Miscellaneous Amendments to Committee Regulations

AGENCY: Committee for Purchase From People Who Are Blind or Severely Disabled.

ACTION: Final rule.

SUMMARY: The Committee is changing the dates by which the annual certifications by participating nonprofit agencies are due to the central nonprofit agencies and the Committee.

EFFECTIVE DATE: October 14, 2003.

ADDRESSES: Committee for Purchase From People Who Are Blind or Severely Disabled, Jefferson Plaza 2, Suite 10800, 1421 Jefferson Davis Highway, Arlington, Virginia 22202-3259.

FOR FURTHER INFORMATION CONTACT: G. John Heyer (703) 603-0665. Copies of this notice will be made available on request in computer diskette format.

SUPPLEMENTARY INFORMATION: The Committee is revising 41 CFR §§ 51-3.2(m) and 51-4.3(a) to change the dates on which the Annual Certifications (Committee Form 403 or 404) submitted at the end of each Federal fiscal year by nonprofit agencies participating in the Committee's program are due to the central nonprofit agencies and the Committee. The purpose of this change is to ensure that the data is received in a more timely manner than is currently the case. The Committee is proposing to change the date the certification forms are due to the central nonprofit agencies from November 15 of each year to November 1, and the date the forms are due to the Committee from December 15 to December 1.

Notice of proposed rulemaking was published on August 1, 2003 (68 FR 45195). In addition, the central nonprofit agency which represents the great majority of nonprofit agencies participating in the Committee's program circulated the proposed regulatory changes to its participating nonprofit agencies.

Twenty-one public comments were received, all from nonprofit agencies participating in the Committee's program. Sixteen comments objected to the change as placing an undue burden on the nonprofit agencies' ability to report fiscal year-end numbers when required. Two nonprofit agencies expressed only minor inconvenience in meeting the new deadline of November 1, and three others indicated that they would be able to meet the new deadline. The nonprofit agencies objecting to the deadline changes represent less than three percent of the over 600 nonprofit agencies participating in the Committee's program. The Committee does not believe that possible inconvenience to a small percentage of its participating nonprofit agencies justifies frustrating the needed improvements in its data reporting system.

Neither central nonprofit agency objected to the change in its reporting deadline from December 15 to December 1. The Committee does not believe the change, which shortens the reporting deadlines by only 15 days, will unduly impact nonprofit agencies participating in the Committee's program. These nonprofit agencies already submit quarterly data reports to their central nonprofit agencies 30 days after the close of each quarter, so their fiscal year-end report merely requires them to combine and update the totals they have already reported, and to provide the annual report at the same time they provide the fourth quarter data to the central nonprofit agencies. As this data is now generally compiled and reported on an electronic basis, the 45-day period which the regulations previously allowed between the close of a fiscal year and the submission of the annual report by nonprofit agencies can no longer be justified. The Committee does not believe that the requirement to have the report signed by the nonprofit agency's chief executive officer and an officer of the board of directors should cause nonprofit agencies to miss the new filing deadline, particularly as most of the participating nonprofit agencies are small community organizations whose executives and board officers are readily available.

The Committee believes it has a compelling need to accelerate the data reporting contained in the annual reports, in order to identify and take corrective action on nonprofit agencies which are falling short of meeting statutory requirements to remain in the Committee's program. The regulatory changes the Committee is making are a part of an initiative which will allow the Committee to conduct this corrective process earlier than is currently the case, and to restore more participating nonprofit agencies to good standing in its program, thus furthering the Committee's statutory mission of increasing employment of people with severe disabilities.

These reporting deadline changes will also allow the Committee to meet its own statutory and regulatory oversight responsibilities in a more timely manner.

However, to help those nonprofit agencies which may experience difficulty adjusting to the new deadline, the Committee is willing to allow those nonprofit agencies which cannot meet the new filing deadline for their Fiscal Year 2003 reports to file them no later than the previous deadline of November 15, 2003. These nonprofit agencies will be required to meet the new deadline when filing their Fiscal Year 2004 annual reports, if they are to maintain their good standing within the Javits-Wagner-O'Day Program.

Regulatory Flexibility Act

I certify that this revision of the Committee regulations will not have a significant economic impact on a substantial number of small entities because the revision clarifies program policies and does not essentially change the impact of the regulations on small entities.

Paperwork Reduction Act

The Paperwork Reduction Act does not apply to this final rule because it contains no new information collection or recordkeeping requirements as defined in that Act and its regulations.

Executive Order No. 12866

The Committee has been exempted from the regulatory review requirements of the Executive Order by the Office of Information and Regulatory Affairs. Additionally, the rule is not a significant regulatory action as defined in the Executive Order.

List of Subjects

41 CFR Part 51-3

Government procurement, Handicapped.

41 CFR Part 51-4

Reporting and recordkeeping requirements.

For the reasons set out in the preamble, Parts 51-3 and 51-4 of Title 41, Chapter 51 of the Code of Federal Regulations are amended as follows:

1. The authority citations for Parts 51-3 and 51-4 continue to read as follows:

Authority: 41 U.S.C. 46-48c.

PART 51-3—CENTRAL NONPROFIT AGENCIES

2. Section 51-3.2 is amended by revising paragraph (m), to read as follows:

§ 51-3.2 Responsibilities under the JWOD Program.

* * * * *

(m) Review and forward to the Committee by December 1 of each year a completed original copy of the appropriate Annual Certification (Committee Form 403 or 404) for each of its participating nonprofit agencies covering the fiscal year ending the preceding September 30.

* * * * *

PART 51-4—NONPROFIT AGENCIES

3. Section 51-4.3 is amended by revising the second sentence of paragraph (a), to read as follows:

§ 51-4.3 Maintaining qualification.

(a) * * * In addition, each such nonprofit agency must submit to its central nonprofit agency by November 1 of each year, two completed copies of the appropriate Annual Certification (Committee Form 403 or 404) covering the fiscal year ending the preceding September 30.

* * * * *

Dated: September 8, 2003.
Leon A. Wilson, Jr.,
Executive Director.

[FR Doc. 03-23325 Filed 9-11-03; 8:45 am]

BILLING CODE 6353-01-P